DEPARTMENT OF ENERGY

Federal Energy Regulatory Commission

[Docket No. ES02-13-000]

Consolidated Edison Company of New York, Inc.; Notice of Filing

December 11, 2001.

Take notice that on November 30, 2001, Consolidated Edison Company of New York, Inc. filed an application for an order, pursuant to Section 203 of the Federal Power Act for authorization to purchase, acquire or take unsecured evidences of indebtedness of its affiliate Orange and Rockland Utilities, Inc. maturing not more than twelve months after their date of issue up to an amount not in excess of $150 million at any one time outstanding.

Any person desiring to be heard or to protest such filing should file a motion to intervene or protest with the Federal Energy Regulatory Commission, 888 First Street, NE., Washington, DC 20426, in accordance with Rules 211 and 214 of the Commission's rules of practice and procedure (18 CFR 385.211 and 385.214). All such motions and protests should be filed on or before December 21, 2001. Protests will be considered by the Commission to determine the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 01-31065 Filed 12-17-01; 8:45 am]

BILLING CODE 6717-01-P